DEPARTMENT OF COMMERCE

International Trade Administration

(C-427-819)

Low Enriched Uranium from France: Notice of Court Decision and Suspension of Liquidation

AGENCY: Import Administration, International Trade Administration, Department of Commerce.

SUMMARY: On May 18, 2006, the United States Court of International Trade (“CIT”) sustained the Department of Commerce's (“the Department's”) March 2, 2006, Final Results of Redetermination on Remand pursuant to Eurodif S.A., Compagnie Generale Des Matieres Nucleaires, and Cogema Inc., et. al. v. United States, Slip. Op. 06-3 (CIT, January 5, 2006) (“LEU Remand Redetermination”), which pertains to the Final Affirmative Countervailing Duty Determination on Low Enriched Uranium (“LEU”) from France.

Consistent with the decision of the U.S. Court of Appeals for the Federal Circuit (“Federal Circuit”) in Timken Co. v. United States, 893 F.2d 337 (Fed. Cir. 1990) (“Timken”), the Department will continue to order the suspension of liquidation of the subject merchandise, where appropriate, until there is a conclusive decision in this case. If the case is not appealed, or if it is affirmed on appeal, the Department will instruct U.S. Customs and Border Protection to liquidate all relevant entries from Eurodif S.A./Compagnie Generale Des Matieres Nucleaires (collectively, “Eurodif” or “respondents”).

EFFECTIVE DATE: May 28, 2006.

FOR FURTHER INFORMATION CONTACT: Kristen Johnson, AD/CVD Operations, Office 3, Import Administration, U.S. Department of Commerce, 14th Street and Constitution Avenue, NW, Washington, DC 20230; telephone: (202) 482-4793.

SUPPLEMENTARY INFORMATION:

Background

On December 21, 2001, the Department published a notice of final affirmative determination in the countervailing duty investigation of LEU from France. See Notice of Final Affirmative Countervailing Duty Determination: Low Enriched Uranium from France, 66 FR 65901 (December 21, 2001) (“LEU Final Determination”), and accompanying Issues and Decision Memorandum: Final Affirmative Countervailing Determination: Low Enriched Uranium from France. The LEU Final Determination was subsequently amended. See Amended Final Determination and Notice of Countervailing Duty Order: Low Enriched Uranium from France, 67 FR 6689 (February 13, 2002).

Respondents challenged the Department's final determination before the CIT. The case was later appealed and the Federal Circuit, in Eurodif S.A., Compagnie Generale Des Matieres Nucleaires, and Cogema Inc., et. al. v. United States, 411 F.3d 1355 (Fed. Cir. 2005) (“Eurodif I”), ruled in favor of respondents. The court panel later clarified its ruling, issuing a decision in Eurodif S.A., Compagnie Generale Des Matieres Nucleaires, and Cogema Inc., et. al. v. United States, 423 F. 3d. 1275 (Fed. Cir. 2005) (“Eurodif II”), which affirmed Eurodif I.

On January 5, 2006, the CIT remanded the case to the Department for action consistent with the decisions of the Federal Circuit in Eurodif I and Eurodif II. See Eurodif S.A., Compagnie Generale Des Matieres Nucleaires, and Cogema Inc. et. al. v. United States, Slip. Op. 06-3 (CIT, January 5, 2006). Specifically, the CIT directed the Department to revise its final determination and order in accordance with the decisions in Eurodif I and Eurodif II.

On March 2, 2006, the Department issued its final results of redetermination and recalculated the subsidy rate applicable to Eurodif, to comply with the decisions of Eurodif I and Eurodif II. See LEU Remand Redetermination. On May 18, 2006, the CIT sustained the Department's redetermination in all respects and, thus, affirmed the Department's revised analysis and calculations. See Eurodif S.A., Compagnie Generale Des Matieres Nucleaires, and Cogema Inc. et. al. v. United States, Slip. Op. 06-76 (CIT, May 18, 2006).

Suspension of Liquidation

The Federal Circuit, in Timken, held that the Department must publish notice of a decision of the CIT or the Federal Circuit, which is not “in harmony” with the Department's final determination or results. Publication of this notice fulfills that obligation. The Federal Circuit also held that the Department must suspend liquidation of the subject merchandise until there is a “conclusive” decision in the case. Therefore, pursuant to Timken, the Department must continue to suspend liquidation pending the expiration of the period to appeal the CIT's May 18, 2006, decision.

In the event that the CIT's ruling is not appealed, the Department will publish an amended final results and liquidate relevant entries covering the subject merchandise.

Dated: May 31, 2006.
David M. Spooner,
Assistant Secretary for Import Administration.

[FR Doc. E6-8941 Filed 6-7-06; 8:45 am]

BILLING CODE: 3510-DS-S